DEPARTMENT OF COMMERCE

Submission for OMB Review; Comment Request

The Department of Commerce has submitted to the Office of Management and Budget (OMB) for clearance the following proposal for collection of information under the provisions of the Paperwork Reduction Act (44 U.S.C. Chapter 35).

Agency: National Telecommunications and Information Administration (NTIA).

Title: Performance Reporting System (PRS) for the Technology Opportunities Program (TOP).

Form Number(s): None.

OMB Approval Number: 0660-0015.

Type of Review: Regular submission.

Burden Hours: 1,526.

Number of Respondents: 27.

Average Hours Per Response: Start-Up Documentation, 20 hours; Progress Reports, 4 hours; Annual Report, 30 minutes; and Final Closeout Report, 20 hours.

Needs and Uses: The purpose of the Technology Opportunities Program (TOP), is to promote the widespread and efficient use of advanced telecommunications services in the public and non-profit sectors to serve America's communities through the award of matching grants. In order to ensure that grant recipients are effectively carrying out the goals of TOP and the agency, and to comply with the Government Performance and Results Act, NTIA will collect and analyze quantitative and qualitative data relating to start-up documentation, quarterly and annual progress reports, and close-out documentation on TOP-funded projects.

NTIA uses the online data collection instrument to regularly evaluate the impacts of its projects, to monitor grants more efficiently and effectively, and to provide timely technical assistance to grant recipients. The Performance Reporting System is a web-based structured reporting system for both quantitative and qualitative project information.

Affected Public: State, local or tribal government; not-for profit institutions.

Frequency: Project start, quarterly, annually, and final report.

Respondent's Obligation: Required to obtain or retain benefits.

OMB Desk Officer: Kristy LaLonde, (202) 395-7232.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: April 5, 2005.
Gwellnar Banks,
Management Analyst, Office of the Chief Information Officer.

[FR Doc. 05-7138 Filed 4-8-05; 8:45 am]

BILLING CODE 3510-60-P